ENVIRONMENTAL PROTECTION AGENCY

40 CFR Part 52

[CA 172-0276b; FRL-7524-8]

Revisions to the California State Implementation Plan, Great Basin Unified Air Pollution Control District

AGENCY: Environmental Protection Agency (EPA).

ACTION: Proposed rule.

SUMMARY: EPA is proposing to approve revisions to the Great Basin Unified Air Pollution Control District (GBUAPCD) portion of the California State Implementation Plan (SIP). These revisions concern permitting of sources that have the potential to emit above major source thresholds but do not actually emit pollutants at those levels. We are proposing to approve local rules under the Clean Air Act as amended in 1990 (CAA or the Act).

DATES: Comments must be received in writing by September 10, 2003.

ADDRESSES: Mail comments to Gerardo Rios, Permits Office Chief (AIR-3), U.S. Environmental Protection Agency, Region IX, 75 Hawthorne Street, San Francisco, CA 94105; rios.gerardo@epa.gov.

You can inspect copies of the submitted SIP revisions and EPA's technical support documents (TSDs) at our Region IX office during normal business hours. You may also see copies of the submitted SIP revisions at the following locations:

Permits Office (AIR-3), Air Division, Environmental Protection Agency, Region IX, 75 Hawthorne Street, San Francisco, CA 94105

Environmental Protection Agency, Air Docket (6102), Ariel Rios Building, 1200 Pennsylvania Avenue, NW., Washington, DC 20460

California Air Resources Board, Stationary Source Division, Rule Evaluation Section, 1001 “I” Street, Sacramento, CA 95814

Great Basin Unified Air Pollution Control District, 157 Short Street, Bishop, CA 93514

A copy of the rule may also be available via the Internet at http://www.arb.ca.gov/drdb/drdbltxt.htm. Please be advised that this is not an EPA website and may not contain the same version of the rule that was submitted to EPA.

FOR FURTHER INFORMATION CONTACT: David Wampler, Permits Office, (AIR-3), Air Division, U.S. Environmental Protection Agency, Region IX, 75 Hawthorne Street, San Francisco, CA 94105, (415) 972-3975.

SUPPLEMENTARY INFORMATION: This proposal addresses local rules GBUAPCD Rules 218 and 219. In the Rules and Regulations section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: June 12, 2003.
Alexis Strauss,
Acting Regional Administrator, Region IX.

[FR Doc. 03-20427 Filed 8-8-03; 8:45 am]

BILLING CODE 6560-50-P